ENVIRONMENTAL PROTECTION AGENCY

[FRL-7168-7]

Demonstration Program To Recognize Local Governments Taking Extraordinary Efforts to Protect Watersheds-Clean Water Partners for the 21st Century

AGENCY: Environmental Protection Agency.

ACTION: Announcement of a demonstration program to recognize local governments that are taking extraordinary actions now to protect and improve watershed health and commit to actions in the future. Request for applications.

SUMMARY: Leadership by local governments is essential if the overall health of the Nation's watersheds are to be maintained and improved over time. While state and federal agencies have an important role to play, local leadership must be encouraged and recognized. Accordingly, the Office of Water at the Environmental Protection Agency (EPA) announces its intention to undertake a demonstration program to recognize local governments of various types that are undertaking extraordinary actions now to protect and enhance watershed health and also commit to undertake specific actions in the future, over and above the requirements of the Clean Water Act. This demonstration program is being undertaken initially as part of an overall effort to celebrate the 30th anniversary of the Clean Water Act (CWA). Depending on the success of this effort, EPA would hope to continue the program in future years. This program is intended to give local government entities of all types the opportunity to be recognized, and is not limited to wastewater treatment agencies.

Organizations interested in applying would be asked to describe their current actions to protect and enhance watershed health and make specific commitments to future actions, based on application guidelines developed for the program. These guidelines are available at www.cleanwaterpartners.org. Organizations applying for the program would undergo a screen of their past compliance based on EPA's Compliance Screening Guidelines for Voluntary Programs. These guidelines can be found at http://es.epa.gov/oeca/polover.pdf. Applications will then be evaluated by a committee made up of members of various local government organizations. Both individual and group applications will be accepted. Those local governments that are ultimately selected to participate would be recognized as a Clean Water Partner by EPA at an appropriate recognition event in fall 2002, roughly coinciding with the 30th anniversary of the Clean Water Act and would be allowed to publicize their selection in various ways throughout their organization.

This program is intended to recognize a broad range of current activities and future commitments by local governments of all types designed to enhance overall watershed health. It will not replace EPA's existing National Wastewater Management Excellence awards program, which will continue to recognize operational achievements in specific areas of wastewater management.

DATES: Application should be submitted no later than May 30, 2002.

ADDRESSES: Applications can be electronically to www.cleanwaterpartners.org. Hard copy applications can be mailed or faxed to Clean Water Partners for the 21st Century Program 1816 Jefferson Place, NW. Washington, DC 20036-2505; FAX (202-564-4657).

EPA Point of Contact: Jim Horne, Office of Wastewater Management, Phone: (202) 564-0571, E-mail: horne.james@epa.gov.

Dated: April 1, 2002.
Michael B. Cook,
Director, Office of Wastewater Management.

[FR Doc. 02-8420 Filed 4-5-02; 8:45 am]

BILLING CODE 6560-50-M